DEPARTMENT OF ENERGY

Federal Energy Regulatory Commission

Combined Notice of Filings #1

Take notice that the Commission received the following electric corporate filings:

Docket Numbers: EC17-159-000.

Applicants: Cuyama Solar, LLC.

Description: Application for Authorization Under Section 203 of the Federal Power Act and Request for Waivers, Confidential Treatment, Expedited Action, and Shortened Comment Period of Cuyama Solar, LLC.

Filed Date: 8/16/17.

Accession Number: 20170816-5148.

Comments Due: 5 p.m. ET 9/6/17.

Docket Numbers: EC17-160-000.

Applicants: Georgia Power Company.

Description: Application of Georgia Power Company for Authorization under FPA Section 203 to Acquire Jurisdictional Facilities.

Filed Date: 8/16/17.

Accession Number: 20170816-5151.

Comments Due: 5 p.m. ET 9/6/17.

Docket Numbers: EC17-162-000.

Applicants: Bruce Power, LLC, Dynegy Lee II, LLC.

Description: Application for Approval Pursuant to Section 203 of the Federal Power Act and Requests for Waivers and Expedited Consideration of Dynegy Lee II, LLC, et. al.

Filed Date: 8/16/17.

Accession Number: 20170816-5153.

Comments Due: 5 p.m. ET 9/6/17.

Take notice that the Commission received the following exempt wholesale generator filings:

Docket Numbers: EG17-139-000.

Applicants: Cuyama Solar, LLC.

Description: Notice of Self-Certification of Exempt Wholesale Generator Status of Cuyama Solar, LLC.

Filed Date: 8/16/17.

Accession Number: 20170816-5147.

Comments Due: 5 p.m. ET 9/6/17.

Take notice that the Commission received the following electric rate filings:

Docket Numbers: ER06-1128-001.

Applicants: Mankato Energy Center, LLC.

Description: Supplement to April 28, 2017 Notification of non-material change in status of Mankato Energy Center, LLC.

Filed Date: 8/16/17.

Accession Number: 20170816-5157.

Comments Due: 5 p.m. ET 9/6/17.

Docket Numbers: ER10-2564-005; ER10-2289-005; ER10-2600-005; EL15-42-000.

Applicants: FortisUS Energy Corporation, Central Hudson Gas & Electric Corp., Tucson Electric Power Company, UNS Electric, Inc., UniSource Energy Development Company.

Description: Supplement Information to January 15, 2015 Notification of Changes in Status of Tucson Electric Power Company, et al.

Filed Date: 8/14/17.

Accession Number: 20170814-5127.

Comments Due: 5 p.m. ET 9/5/17.

Docket Numbers: ER15-1644-002.

Applicants: Dynegy Lee II, LLC.

Description: Compliance filing: Informational Filing Regarding the Planned Indirect Transfer of Control to be effective N/A.

Filed Date: 8/17/17.

Accession Number: 20170817-5112.

Comments Due: 5 p.m. ET 9/7/17.

Docket Numbers: ER17-2041-001.

Applicants: Southwest Power Pool, Inc.

Description: Tariff Amendment: 3334 Associated Electric Cooperative NITSA and NOA to be effective 6/1/2017.

Filed Date: 8/17/17.

Accession Number: 20170817-5060.

Comments Due: 5 p.m. ET 9/7/17.

Docket Numbers: ER17-2319-000.

Applicants: Idaho Power Company.

Description: Idaho Power Company submits Average System Cost Filing for Sales of Electric Power to the Bonneville Power Administration, FY 2018-2019.

Filed Date: 8/17/17.

Accession Number: 20170817-5021.

Comments Due: 5 p.m. ET 9/7/17.

Docket Numbers: ER17-2320-000.

Applicants: PJM Interconnection, L.L.C.

Description: § 205(d) Rate Filing: Revisions to OATT and OA RE: Pseudo-Tie Settlement Changes to be effective 11/1/2017.

Filed Date: 8/17/17.

Accession Number: 20170817-5023.

Comments Due: 5 p.m. ET 9/7/17.

Docket Numbers: ER17-2321-000.

Applicants: Dynegy Lee II, LLC.

Description: Request for Waiver of Dynegy Lee II, LLC.

Filed Date: 8/16/17.

Accession Number: 20170816-5152.

Comments Due: 5 p.m. ET 9/6/17.

Docket Numbers: ER17-2322-000.

Applicants: Nexus Energy Inc.

Description: Baseline eTariff Filing: Nexus Energy Market-based Rate Tariff v2 to be effective 11/1/2017.

Filed Date: 8/17/17.

Accession Number: 20170817-5047.

Comments Due: 5 p.m. ET 9/7/17.

Docket Numbers: ER17-2323-000.

Applicants: Midcontinent Independent System Operator, Inc., Ameren Illinois Company.

Description: § 205(d) Rate Filing: 2017-08-17_Filing to revise Ameren Attachment O Formula Rate Templates to be effective 1/1/2018.

Filed Date: 8/17/17.

Accession Number: 20170817-5058.

Comments Due: 5 p.m. ET 9/7/17.

Take notice that the Commission received the following electric reliability filings:

Docket Numbers: RD17-6-000.

Applicants: North American Electric Reliability Corporation.

Description: Revisions to the Violation Risk Factors for Reliability Standard BAL-002-2 of the North American Electric Reliability Corporation.

Filed Date: 8/14/17.

Accession Number: 20170814-5191.

Comments Due: 5 p.m. ET 9/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2017.
Nathaniel J. Davis, Sr.,
Deputy Secretary.

[FR Doc. 2017-17845 Filed 8-22-17; 8:45 am]

BILLING CODE 6717-01-P